DEPARTMENT OF TRANSPORTATION

Federal Aviation Administration

Twenty Third RTCA SC-223 IPS and AeroMACS Plenary

AGENCY: Federal Aviation Administration (FAA), U.S. Department of Transportation (DOT).

ACTION: Twenty Third RTCA SC-223 IPS and AeroMACS Plenary.

SUMMARY: The FAA is issuing this notice to advise the public of a meeting of Twenty Third RTCA SC-223 IPS and AeroMACS Plenary.

DATES: The meeting will be held August 21-24, 2017, 9:00 a.m.-5:00 p.m. and August 25, 9:00 a.m.-12:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Twenty Third RTCA SC-223 IPS and AeroMACS Plenary. The agenda will include the following:

August 21, 2017, 9:00 a.m.-5:00 p.m.

(1) Welcome, Introductions, Administrative Remarks

(2) Review of Previous Meeting Notes and Action Items

(3) Review of Current State of Industry Standards

A. ICAO WG-I

B. AEEC IPS Sub Committee

(4) Current State of Industry Activities

A. SESAR Programs

B. ESA IRIS Precursor

C. Any Other Activities

(5) IPS Technical Discussions

A. Review of IPS High Level Profile

B. Review of IPS RFC Detail Profiles

C. Prioritization of Additional IETF RFCs for Profiling

(6) Any Other Topics of Interest

A. SC-228 ISRA Discussions

B. Other Topics

(7) Plans for Next Meetings

(8) Review of Action Items and Meeting Summary

August 22, 2017, 9:00 a.m.-5:00 p.m.

(1) Continue With Agenda

August 23, 2017, 9:00 a.m.-5:00 p.m.

(1) Continue With Agenda

August 24, 2017, 9:00 a.m.-5:00 p.m.

(1) Continue With Agenda

August 25, 2017, 9:00 a.m.-12:00 p.m.

(1) Continue With Agenda

(2) Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 20, 2017.
Mohannad Dawoud,
Management & Program Analyst, Partnership Contracts Branch, ANG-A17, NextGen, Procurement Services Division, Federal Aviation Administration.

[FR Doc. 2017-15602 Filed 7-25-17; 8:45 am]

BILLING CODE 4910-13-P